DEPARTMENT OF DEFENSE

Office of the Secretary

[Docket ID DoD-2013-OS-0206]

Privacy Act of 1974; System of Records

AGENCY: Office of the Secretary of Defense, DoD.

ACTION: Notice to alter a system of records.

SUMMARY: The Office of the Secretary of Defense proposes to alter a system of records, DMDC 18 DoD, Synchronized Predeployment and Operational Tracker Enterprise Suite (SPOT-ES) Records, in its inventory of record systems subject to the Privacy Act of 1974, as amended. This system allows federal agencies and Combatant Commanders the ability to plan, manage, track, account for, monitor and report on contracts, companies and contractor employees during planning, operation and drawdown of any contingency, humanitarian assistance, peacekeeping, or disaster-recovery operation both within and outside of the U.S.

This system is transferring from the Department of the Army to the Office of the Secretary of Defense, Defense Management Data Center.

DATES: This proposed action will be effective on November 25, 2013 unless comments are received which result in a contrary determination. Comments will be accepted on or before November 25, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html.

The proposed system report, as required by U.S.C. 552a(r) of the Privacy Act of 1974, as amended, was submitted on October 7, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 21, 2013.
Aaron Siegel,
Alternate OSD Federal Register Liaison Officer, Department of Defense.

A0715-9 DCS, G-4 DoD

Synchronized Predeployment and Operational Tracker (SPOT) Records (March 18, 2010, 75 FR 13103)

Changes:

System identifier:

Delete entry and replace with “DMDC 18 DoD.”

System name:

Delete entry and replace with “Synchronized Predeployment and Operational Tracker Enterprise Suite (SPOT-ES) Records.”

System location:

Delete entry and replace with “U.S. Army Acquisition, Logistics and Technology Enterprise Systems and Services (ALTESS), Product Director ALTESS, Caller Service 4, Radford Army Ammunition Plant, Building 450, Radford, VA 24143-0004.

Defense Information Systems Agency, Defense Enterprise Computing Centers, 3990 E. Broad Street, Building 23, Columbus, OH 43213-1152.

Defense Manpower Data Center, 400 Gigling Road, Seaside CA 93955-6771.

Stand-alone Joint Asset Movement Management System (JAMMS) machines are deployed to National Deployment Centers, Central Issue Facilities and high-traffic area locations in contingency, humanitarian assistance, peacekeeping, and disaster relief operations. A list of locations can be made available by submitting a request in writing to the system manager.”

Categories of individuals covered by the system:

Delete entry and replace with “Department of Defense (DoD), Department of State (DOS) and United States Agency for International Development (USAID) contractor personnel supporting contingency, humanitarian assistance, peacekeeping, and disaster relief operations both within and outside of the U.S., and during other missions or scenarios.

DoD military personnel and civilian employees supporting contingency, humanitarian assistance, peacekeeping, and disaster relief operations both within and outside of the U.S., and during other missions or scenarios.

DOS and USAID civilian employees supporting contingency operations led by DoD or the DOS Office of Security Cooperation outside of the U.S., e.g., Iraq and Afghanistan.

Government civilian and contractor personnel of other Federal Agencies including the Department of Interior, Department of Homeland Security, Department of Treasury, Department of Justice, Department of Health and Human Services, Environmental Protection Agency, Department of Transportation, Department of Energy, and General Services Administration may use the system to account for their personnel when supporting contingency, humanitarian assistance, peacekeeping, and disaster relief operations both within and outside of the U.S.

Civilian organizations and private citizens, including first responders, who are in the vicinity, are supporting, or are impacted by contingency, humanitarian assistance, peacekeeping, or disaster relief operations, and transit through a JAMMS workstation.”

Categories of records in the system:

Delete entry and replace with “Individual profile data: For contractor personnel, full name; blood type; Social Security Number (SSN); DoD Identification Number; Federal/foreign ID number or Government-issued ID number, such as passport and/or visa number; category of person (contractor); home, office, and deployed telephone numbers; home and deployed address; home, office, and deployed email addresses; emergency contact name and telephone number; next of kin name, phone number and address; duty location and duty station; travel authorization documentation, i.e., Letters of Authorization (LOAs), air travel itineraries, and movements in the area of operations; in-theater and Government authority points of contact; security clearance information and pre-deployment processing information, including completed training certifications. Contractor personnel performing private security functions: Type of media used to collect identity and the document ID. Authorized weapons and equipment, and other official deployment-related information, such as types of training received.

Contract information data:

Contract number, contractor company name, contract capabilities, contract value, contract/task order period of performance, theater business clearance, and contact name, office address and phone number.

For DoD military and civilian personnel, full name; SSN; DoD Identification Number; category of person (civilian or military) and movements in the area of operations.

For other Federal agency personnel, full name; SSN; Government-issued ID number (such as passport and/or visa number); category of person (Federal civilian) and movements in the area of operations.

For non-Government personnel, full name; Government-issued ID number (such as passport and/or visa number) and movements in the area of operations.”

Authority for maintenance of the system:

Delete entry and replace with “10 U.S.C. 133, Under Secretary of Defense for Acquisition, Technology and Logistics; 10 U.S.C. 2302, note, Contracts in Iraq and Afghanistan and Private Security Contracts in Areas of Other Significant Military Operations; DoD Directive 1000.25, DoD Personnel Identity Protection (PIP) Program; DoD Directive 1404.10, DoD Civilian Expeditionary Workforce; DoD Directive 3020.49, Orchestrating, Synchronizing, and Integrating Program Management of Contingency Acquisition Planning and Its Operational Execution; DoD Instruction 3020.41, Operational Contract Support (OCS); DoD Instruction 3020.50, Private Security Contractors (PSCs) Operating in Contingency Operations, Humanitarian or Peace Operations, or Other Military Operations or Exercises; DoD Instruction 6490.03, Deployment Health; and E.O. 9397 (SSN), as amended.”

Purpose(s):

Delete entry and replace with “The Synchronized Predeployment and Operational Tracker Enterprise Suite (SPOT-ES) allows federal agencies and Combatant Commanders the ability to plan, manage, track, account for, monitor and report on contracts, companies and contractor employees during planning, operation and drawdown of any contingency, humanitarian assistance, peacekeeping, or disaster-recovery operation both within and outside of the U.S. The SPOT-ES is a web-based system providing a repository of military, Government civilian and contractor personnel and contract information for DoD, DOS, USAID, other Federal agencies, and Combatant Commanders to centrally manage their deploying, deployed and redeploying assets via a single authoritative source for up-to-date visibility of personnel assets and contract capabilities. Used as a management tool for statistical analysis, tracking, reporting, evaluating program effectiveness and conducting research.

The Total Operational Picture Support System (TOPSS) web-based application integrates the information in SPOT-ES to provide trend analysis, widgets and reports from different views based on the user access level and parameters selected to support DoD, DOS, USAID, other Federal agencies, and Combatant Commanders requirements.

JAMMS is a stand-alone application that scans identity credentials (primarily held by military, Government civilians and contractors) at key decentralized locations, such as dining facilities, billeting, central issue facilities and aerial ports of debarkation. Also used as a management tool for statistical, tracking, reporting, evaluating program effectiveness, and conducting research.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To DOS and USAID to account for their Government civilian and contractor personnel supporting contingency operations outside of the U.S., and to determine status of processing and deployment documentation, contracts, weapons and equipment, current and historical locations, company or organization where an individual is employed, and contact information.

To Federal agencies associated with the categories of individuals covered by the system to account for their Government civilian and contractor personnel when supporting contingency, humanitarian assistance, peacekeeping, and disaster relief operations both within and outside of the U.S.

To contractor companies to account for their employees during contingency, humanitarian assistance, peacekeeping, and disaster relief operations both within and outside of the U.S.

To applicable civilian organizations to account for their personnel located in a contingency area.

To applicable facilities managers where JAMMS are installed to account for Government services consumed and depict usage trends.

The DoD Blanket Routine Uses set forth at the beginning of the Office of the Secretary of Defense (OSD) compilation of systems of records notices may apply to this system.”

* * * * *

Retrievability:

Delete entry and replace with “Within SPOT-ES: full name, SSN, DoD Identification Number or Federal/foreign ID number.

Within JAMMS: Information may be retrieved at the specific machine used at a location within specified start and ending dates by last name.”

Safeguards:

Delete entry and replace with “Electronic records in SPOT-ES and TOPSS are maintained in a Government-controlled area accessible only to authorized personnel. Entry to these areas is restricted to those personnel with a valid requirement and authorization to enter. Physical entry is restricted by the use of lock, guards, and administrative procedures. Physical and electronic access is restricted to designated individuals having a need-to-know in the performance of official duties. Access to personal information is further restricted by the use of Public Key Infrastructure or login/password authorization. Information is accessible only by authorized personnel with appropriate clearance/access in the performance of their duties. Once access is gained, the system is set with an automatic timeout period to reduce the opportunity for unauthorized access.

For JAMMS, physical and electronic access is restricted to designated individuals having a need-to-know in the performance of official duties. Access to personal information is further restricted by the use of login/password authorization. Computers running the JAMMS software are located on Government installations where physical entry is restricted to authorized personnel. Each machine is physically secured with a combination lock and cable. While the computer is active, the view screen is oriented away from the cardholder, and access is controlled by an attendant on duty. While the data is at rest and when data is transferred to SPOT-ES, the records are encrypted. Daily exports from JAMMS are uploaded, via encrypted file transfer, to SPOT-ES as the mandated repository of information on contingency contract and contractor information.”

Retention and disposal:

Delete entry and replace with “Permanent. Close all files upon end of individual's deployment. Transfer to the National Archives and Records Administration when 25 years old.”

System manager(s) and address:

Delete entry and replace with “Deputy Director for Identity, Defense Manpower Data Center, 4800 Mark Center Drive, Alexandria, VA 22350-6000.”

Notification procedure:

Delete entry and replace with “Individuals seeking to determine whether information about themselves is contained in this system should address written inquiries to the Deputy Director, Defense Manpower Data Center, DoD Center Monterey Bay, 400 Gigling Road, Seaside, CA 93955-6771.

Signed, written requests should contain the individual's full name, last four digits of the SSN, DoD Identification Number or Federal/foreign ID number, current address, telephone number, and when and where they were assigned during the contingency.”

Record access procedures:

Delete entry and replace with “Individuals seeking access to information about themselves contained in this system should address written inquiries to the Office of the Secretary of Defense/Joint Staff Freedom of Information Act, Requester Service Center, Office of Freedom of Information, 1155 Defense Pentagon, Washington, DC 20301-1155.

If you are a foreign national seeking access to your records, your request must be submitted under the Freedom of Information Act at the above address.

Signed, written requests should contain the individual's full name, last four digits of the SSN, DoD Identification Number or Federal/foreign ID number, current address, telephone number, when and where they were assigned during the contingency, and the name and number of this system of records notice.”

Contesting record procedures:

Delete entry and replace with “The OSD rules for accessing records, for contesting contents, and appealing initial agency determinations are contained in OSD Administrative Instruction 81; 32 CFR part 311; or may be obtained from the system manager.”

Record source categories:

Delete entry and replace with “Individuals, individual's employer (military, Government civilians and contractor personnel), Defense Enrollment Eligibility Reporting System (DEERS), and Federal entities supporting contingency, humanitarian assistance, peacekeeping, and disaster relief operations.”

* * * * *

[FR Doc. 2013-25007 Filed 10-23-13; 8:45 am]

BILLING CODE 5001-06-P